DEPARTMENT OF THE INTERIOR

Bureau of Land Management

[LLAZP02000.L16100000.DQ0000.LXSS089A0000.241A]

Notice of Availability of the Draft Resource Management Plan/Draft Environmental Impact Statement for the Lower Sonoran and Sonoran Desert National Monument, AZ

AGENCY: Bureau of Land Management, Interior.

ACTION: Notice of availability.

SUMMARY: In accordance with the National Environmental Policy Act of 1969, as amended, and the Federal Land Policy and Management Act of 1976, as amended, the Bureau of Land Management (BLM) has prepared a Draft Resource Management Plan (RMP) and Draft Environmental Impact Statement (EIS) for the Lower Sonoran (LS) and Sonoran Desert National Monument (SDNM) Planning Area, and by this notice, is announcing the opening of a 90-day comment period.

DATES: To ensure that comments will be considered, the BLM must receive written comments on the Draft RMP/EIS within 90 days following the date the Environmental Protection Agency publishes their notice of the Draft RMP/EIS in the Federal Register. The BLM will announce future meetings or hearings and any other public participation activities at least 15 days in advance through public notices, media releases, and/or mailings.

ADDRESSES: You may submit written comments related to the LS-SDNM Draft RMP/EIS by any of the following methods:

• E-mail: blm_az_ls_sdnm_plan@blm.gov.

• Fax: 623-580-5580.

• Mail or in person: BLM Phoenix District Office, Attention: LS-SDNM Draft RMP/EIS, 21605 North 7th Avenue, Phoenix, Arizona 85027.

FOR FURTHER INFORMATION CONTACT: Penny Foreman, RMP Project Manager, telephone: 623-580-5526; BLM Phoenix District, 21605 North 7th Avenue, Phoenix, Arizona 85027; e-mail: blm_az_ls_sdnm_plan@blm.gov.

SUPPLEMENTARY INFORMATION: Copies of the LS-SDNM Draft RMP/EIS are available in the BLM Phoenix District Office, at the above address, and at the following other locations:

• http://www.blm.gov/az/st/en/prog/planning/son_des/reports.html.

• BLM Arizona State Office, One North Central Avenue, Suite 800, Phoenix, Arizona 85004-4427.

• Apache Junction Public Library, 1177 N. Idaho Road, Apache Junction, Arizona 85219.

• Buckeye Public Library, 310 North 6th Street, Buckeye, Arizona 85326.

• Casa Grande Public Library, 449 North Dry Lake, Casa Grande, Arizona 85222.

• Gila Bend Public Library, 202 North Euclid Avenue, Gila Bend, Arizona 85337.

• Salazar-Ajo Branch Library, 33 Plaza, Ajo, Arizona 85321.

The LS-SDNM Planning Area includes approximately 8.9 million acres of public and private lands, containing about 1.4 million surface acres, and 3.9 million subsurface/mineral-split estate acres administered by the BLM. These include about 930,200 surface acres in the Lower Sonoran Field Office, referred to as the LS Decision Area, and 486,400 surface acres within the Sonoran Desert National Monument, referred to as the SDNM Decision Area.

Public scoping took place in 2002 and 2003, when two separate Notices of Intent for the LS and SDNM planning efforts were published, and 11 public scoping meetings were held. The planning efforts also included cooperation and collaboration with Federal, State, county, and local agencies, as well as 13 Tribes. The plan will consolidate or replace management guidance from the Lower Gila North Management Framework Plan of 1983, the Lower Gila South Resource Management Plan of 1988, the Phoenix Resource Area Resource Management Plan of 1989, and five plan amendments implemented between 1983 and 2005. A new RMP for the SDNM will fulfill Presidential Proclamation 7397 requirements to protect the special qualities and objects for which the Monument was designated. Scoping issues identified include wilderness characteristics, livestock grazing, recreational target and sports shooting, travel management, and energy development.

Five alternatives are analyzed in the Draft RMP/EIS. The “no action” alternative, Alternative A, represents the current management situation for both the LS and the SDNM Decision Areas and serves as a baseline for most resource and land-use allocations.

Alternative B identifies the greatest amount of public lands suitable for appropriate multiple uses, emphasizing opportunities for motorized and developed recreational uses while reducing opportunities for experiencing remote settings and non-motorized recreation.

Alternative C attempts to balance resource protection with human use and influence providing for a variety of uses that emphasize resource protection and conservation and propose a mix of natural processes and techniques for resource stabilization and restoration.

Alternative D places the greatest emphasis on minimizing human uses and maintaining primitive landscapes by focusing on natural processes and other unobtrusive methods for resource stabilization and restoration.

Alternative E, the Preferred Alternative, attempts to balance human use and influence with resource protection by incorporating elements from each of the other action alternatives. It provides long-term protection and conservation of resources. Pursuant to 43 CFR 1610.7-2(b), this notice announces a concurrent public comment period on proposed Areas of Critical Environmental Concern (ACECs). Under the Preferred Alternative, the BLM proposes four ACECs in the LS Decision Area and none in the SDNM Decision Area. The ACECs are: Coffeepot-Batamote (61,300 acres); Cuerda de Lena (58,500 acres); Gila River Terraces and Lower Gila Historic Trails (82,500 acres); and the Saddle Mountain Outstanding Natural Area (48,500 acres). Proposed resource use limitations common to all ACECs are:

• Public lands are maintained in public ownership;

• ACECs are exclusion areas for utility-scale renewable energy land use authorizations and new multiuse utility corridors; and,

• ACECs are closed to mineral material disposals with the exception of existing free-use permit sites.

Additional proposed resource use limitations within the Coffeepot-Batamote ACEC are:

• Motorized vehicle use is restricted from February 1 to July 31, in washes that are known or found to contain occupied Cactus Ferruginous Pygmy-Owl habitat.

Additional proposed resource use limitations within the Cuerda de Lena ACEC are:

• Recreational public access is closed during the Sonoran pronghorn fawning season (March 15 to July 15, or as determined by the Sonoran Pronghorn Recovery Team). Minor land-use authorizations are also prohibited unless deemed necessary by the authorized officer. Federal, State and local government employees and permit holders operating within the scope of their authorizations are exempt from the closure;

• Developed recreational sites are prohibited except for small, non-intrusive informational and interpretive facilities; and

• New travel routes in washes are prohibited. New routes may only be considered if deemed necessary for emergency use or other authorized administrative uses.

Additional proposed resource use limitations within the Gila River Terraces and Lower Gila Trails ACEC are:

• ACEC is open to non-renewable leasable minerals actions, but leases will contain No Surface Occupancy stipulations;

• Selected public land parcels along the Gila River, within the Gila River Terraces section of the ACEC, are closed to geophysical exploration and mineral materials disposals (see DRMP for legal descriptions); and

• Selected public land parcels along the Butterfield Overland Stage Route, within the Lower Gila Trails section of the ACEC, are closed to locatable mineral entry and exploration activities.

No additional resource use limitations are proposed for the Saddle Mountain Outstanding Natural Area ACEC.

Please note that public comments and information submitted including names, street addresses, and e-mail addresses of persons who submit comments will be available for public review and disclosure at the above BLM address during regular business hours (7:30 a.m. to 4:15 p.m.), Monday through Friday, except holidays.

Before including your address, phone number, e-mail address, or other personal identifying information in your comments, you should be aware that your entire comment, including your personal identifying information, may be made publicly available at any time. While you can ask us in your comment to withhold your personal identifying information from public review, we cannot guarantee that we will be able to do so.

Authority: 40 CFR 1506.6, 40 CFR 1506.10, 43 CFR 1610.2, 43 CFR 1610.7-2.

James G. Kenna,
Arizona State Director.

[FR Doc. 2011-21715 Filed 8-25-11; 8:45 am]

BILLING CODE 4310-32-P